DEPARTMENT OF ENERGY

Federal Energy Regulatory Commission

[Docket No. CP09-455-000; PF08-31-000; Docket No. CP09-456-000; PF08-32-000]

Florida Gas Transmission Company, LLC; Transcontinental Gas Pipe Line Company, LLC; Florida Gas Transmission Company, LLC; Notice of Application

August 27, 2009.

Take notice that on August 14, 2009, Florida Gas Transmission Company, LLC (FGT), 5455 Westheimer Road, Houston, Texas 77056-5306, filed an application to section 7(c) of the Natural Gas Act (NGA) seeking authority to construct, own, operate and maintain certain natural gas transmission facilities, including a metering and regulation station and associated and appurtenant facilities and the modification of a compressor facility all in Mobile County, Alabama; and to provide firm transportation services under Subpart G of Part 284 of the Commission's Regulations (The Mobile Bay Lateral Extension Project), all as more fully set forth in the application. This filing is available for review at the Commission in the Public Reference Room or may be viewed on the Commission's Web site at http://www.fer.gov using the “eLibrary” link. Enter the docket number excluding the last three digits in the docket number field to access the document. For assistance, please contact FERC Online Support at FERCOnlineSupport@ferc.gov or toll free at (866) 208-3676, or for TTY, contact (202) 502-8659.

Specifically, The Mobile Bay Lateral Extension Project will consist of 8.83 miles of 24-inch pipeline and related facilities. The project will provide an annual average of 342,610 MMbtu/day of additional firm transportation capacity. FGT estimates that the cost of the project will be $34 million. In addition, FGT is requesting to include in the overall cost of service, FGT's share of the Transco-FGT Pascagoula Expansion Project filed, concurrently, in Docket No. CP09-456-000.

Also, take notice that on August 14, 2009, Transcontinental Gas Pipe Line Company, LLC (Transco), Post Office Box 1396, Houston, Texas 77251, and FGT (collectively Applicants), filed an application to section 7(c) of the NGA seeking authority to jointly construct, and operate the Pascagoula Expansion Project, a greenfield natural gas pipeline connecting the Gulf LNG Pipeline with Applicants' existing Mobile Bay Lateral, and related facilities. The project will provide 810,000 dekatherms per day (Dth/day) of firm transportation service, with a target in-service date of September 30, 2011. Applicants estimate that the proposed project will cost approximately $59 million.

Specifically, the Pascagoula Expansion Project will consist of 15 miles of 26-inch pipeline and related facilities extending from the interconnection with Gulf LNG Pipeline to Applicants' existing Mobile Bay Lateral in Mobile County, Alabama.

Any questions regarding the Mobile Bay Lateral Extension Project should be directed to Stephen T. Veatch, Sr. Director, Certificates and Tariffs, Florida Gas Transmission Company, LLC, 5444 Westheimer Road, Houston, Texas 77056-5306 or at (713) 989-2024, or Stephen.Veatch@sug.com.

Any questions regarding the Pascagoula Expansion Project should be directed to Ingrid Germany, P.O. Box 1396, Houston, Texas 77251 or at (713) 215-4015, or PipelineExpansion@williams.com.

FGT and Applicants state that by letter dated September 24, 2008, in Docket Nos. PF08-31-000 and PF08-32-000, the Commission's Office of Energy Projects granted both FGT's September 11, 2008, and the Applicants' September 15, 2008, request to utilize the Commission's Pre-Filing Process for the proposed Mobile Bay Lateral Extension Project and Pascagoula Expansion Project. FGT and the Applicants have also submitted an applicant-prepared Draft Environmental Assessment that was prepared during the Pre-Filing Process that was included with this application.

On September 24 2008, the Commission staff granted FGT's request to utilize the National Environmental Policy Act (NEPA) Pre-Filing Process and assigned Docket No. PF08-31-000 to staff activities involving the project. Now, as of the filing of this application on August 14, 2009, the NEPA Pre-Filing Process for this project has ended. From this time forward, this proceeding will be conducted in Docket No. CP09-455-000, as noted in the caption of this notice.

On September 24 2008, the Commission staff granted the Applicants' request to utilize the National Environmental Policy Act (NEPA) Pre-Filing Process and assigned Docket No. PF08-32-000 to staff activities involving the project. Now, as of the filing of this application on August 14, 2009, the NEPA Pre-Filing Process for this project has ended. From this time forward, this proceeding will be conducted in Docket No. CP09-456-000, as noted in the caption of this notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: September 17, 2009.

Kimberly D. Bose,
Secretary.

[FR Doc. E9-21247 Filed 9-2-09; 8:45 am]

BILLING CODE 6717-01-P